DEPARTMENT OF THE INTERIOR

Bureau of Land Management

[LLUT9200000-10-L13200000-EL000, UTU-87041]

Notice of Invitation to Participate; Exploration for Coal in Utah License Application UTU-87041

AGENCY: Bureau of Land Management, Interior.

ACTION: Notice.

SUMMARY: All interested parties are hereby invited to participate with Reserve Coal Properties Company on a pro rata cost-sharing basis, in a program for the exploration of coal deposits owned by the United States of America in lands located in Emery and Sevier Counties, Utah.

DATES: Any party electing to participate in this exploration program must send written notice to Reserve Coal Properties Company and the Bureau of Land Management (BLM) as provided in the ADDRESSES section below by May 13, 2010 or 10 days after the last publication of this notice in the Richfield Reaper newspaper, whichever is later. This notice will be published once a week for two consecutive weeks in the Richfield Reaper, Richfield, Utah.

ADDRESSES: The exploration plan, as submitted by Reserve Coal Properties Company, is available for review in the public room of the BLM's Utah State Office, 440 West 200 South, Suite 500, Salt Lake City, Utah during normal business hours (9 a.m. to 4 p.m.), Monday through Friday. Any party electing to participate in this exploration program shall notify the BLM State Director, in writing, at the Utah State Office, P.O. Box 45155, Salt Lake City, Utah 84145 and Reserve Coal Properties Company, Attn: Tim Kirschbaum, P.O. Box 639, Sesser, Illinois 62884. The written notice must include a justification for participation and any recommended changes in the exploration plan with specific reasons for such changes.

FOR FURTHER INFORMATION CONTACT: Bill Buge at (801) 539-4086.

SUPPLEMENTARY INFORMATION: The authority for the notice is section 2(b) of the Mineral Leasing Act of 1920, as amended by section 4 of the Federal Coal Leasing Amendments Act of 1976 and the regulations adopted as 43 CFR part 3410. The purpose of the exploration program is to gain additional geologic knowledge of the coal underlying the exploration area for the purpose of assessing the reserves contained in a potential lease. The Federal coal resources are located in Emery and Sevier Counties, Utah:

T. 23 S., R. 5 E., SLM, Utah

Sec. 1, all;

Sec. 11, all;

Sec. 12, all;

Sec. 13, all;

Sec. 14, all;

T. 23 S., R. 6 E., SLM, Utah

Sec. 6, lots 6 and 7, S½NE¼, E½SW¼, SE¼;

Sec. 7, lots 1-4, NE¼, E½W½;

These lands contain 4,082.33 acres, more or less.

The above-described land is within the Wasatch Plateau Known Coal Leasing Area. The proposed exploration program will be conducted pursuant to an exploration plan to be approved by the BLM. The plan may be modified to accommodate the legitimate exploration needs of persons seeking to participate.

The foregoing is published in the Federal Register pursuant to 43 CFR 3410.2-1(c)(1).

Approved:
Selma Sierra
State Director.

[FR Doc. 2010-8392 Filed 4-12-10; 8:45 am]

BILLING CODE 4310-DQ-P